DEPARTMENT OF THE INTERIOR

Bureau of Indian Affairs

Land Acquisitions; Paskenta Band of Nomlaki Indians of California

AGENCY: Bureau of Indian Affairs, Interior.

ACTION: Notice of Final Agency Determination to take land into trust under 25 CFR Part 151.

SUMMARY: The Assistant Secretary—Indian Affairs made a final agency determination to acquire approximately 1898.16 acres, more or less, of land into trust for the Paskenta Band of Nomlaki Indians of California on November 30, 2000. This notice is published in the exercise of authority delegated by the Secretary of the Interior to the Assistant Secretary—Indian Affairs by 209 DM 8.

FOR FURTHER INFORMATION CONTACT: George Skibine, Office of Indian Gaming Management, Bureau of Indian Affairs, MS-2070-MIB, 1849 C Street, NW., Washington, DC 20240, telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On November 30, 2000, the Assistant Secretary—Indian Affairs decided to accept approximately 1898.16 acres, more or less, of land into trust for the Paskenta Band of Nomlaki Indians of California pursuant to Section 305 of the Paskenta Band Restoration Act, 25 U.S.C. § 1300m-3 (1994). The Secretary shall acquire title in the name of the United States in trust for the Paskenta Band of Nomlaki Indians of California for the following parcels of land described below no sooner than 30 days after the date of this notice.

Containing 1,635.70 acres, more or less, located within Tehama County, California. Further described as follows:

Located in the Unincorporated Area

Parcel One: (APN 87-210-09)

The north half of the southwest quarter of Section 5, Township 23 north, Range 3 west, Mount Diablo Meridian, according to the official plat thereof.

Excepting therefrom that portion conveyed to the United States of America, by deed recorded August 11, 1955 in Book 281 at page 80, official records of Tehama County, described as follows: A parcel of land in the north half of the southwest quarter of Section 5, Township 23 north, Range 3 west, Mount Diablo Meridian, described as follows; beginning at a point in the south boundary of Maywood Colony No. 24, as said colony is shown on the map entitled; “Maywood Colony No. 24 Tehama County California:”, filed in the official records of county recorder of said county on April 23, 1900 in book “B” of maps at page 46, said point being also in the north boundary of the south half of said Section 5, distant therealong south 89°25′ east 1885.3 feet from a sandstone monument set at the west quarter corner of said section 5; thence south 89° 25′ east 97.3 feet along said common boundary; thence leaving said common boundary south 235.5 feet; thence east 102.7 feet; thence south 150.0 feet; thence south 78° 31′ west 204.1 feet; thence north 427.1 feet to the point of beginning.

Excepting therefrom that portion lying within parcel fourteen described herein.

Parcel Two: (APN 87-210-16)

The southeast quarter of Section 6, Township 23 north, Range 3 west, Mount Diablo Meridian, according to the official plat thereof.

Excepting therefrom that portion described as commencing at the northwest corner of the south one-half of the southwest quarter of Section 5, Township 23 north, Range 3 west, Mount Diablo Meridian, according to the official plat thereof; thence 482 feet west parallel to the south line of section 6, Township 23 north, Range 3 west, Mount Diablo Meridian, to the point of beginning; thence south 300 feet; thence west 330 feet; thence north 660 feet; thence east 330 feet; thence south 360 feet.

Also excepting therefrom the following described real property consisting of approximately 17.00 acres:

Beginning at the southwest corner of Section 5, Township 23 north, Range 3 west, thence north 28°14′38″ west a distance of 1049.89 feet to a point on the south line of “Parcel A” which is the true point of beginning of this description, thence south 90°00′00″ east a distance of 487.43 feet, thence due north a distance of 331.64 feet, thence north 02°54′08″ west a distance of 650.42 feet to a railroad spike set along the westerly side of the existing access road, thence south 62°36′00″ west a distance of 763.01 feet to an iron pipe monument, thence south 22°05′06″ west a distance of 944.25 feet to an iron pipe monument, thence south 32°31′22″ east a distance of 101.77 feet to a point on an existing fence line, thence north 57°36′52″ east a distance of 202.01 feet along said fence line, thence north 70°24′17″ east along said fence a distance of 57.07 feet, thence north 55°46′08″ east a distance of 361.49 feet to the true point of beginning of this description.

Also excepting therefrom that portion lying within parcel thirteen described herein.

Parcel Three: (APN 87-210-19)

Commencing at the northwest corner of the south one-half of the southwest quarter of Section 5, Township 23 north, Range 3 west, Mount Diablo Meridian, according to the official plat thereof; thence 482 feet west parallel to the south line of Section 6, Township 23 north, Range 3 west, Mount Diablo Meridian, to the point of beginning; thence south 300 feet; thence west 330 feet; thence north 660 feet; thence east 330 feet; thence south 360 feet.

Excepting therefrom the following described real property consisting of approximately 17.00 acres.

Beginning at the southwest corner of Section 5, Township 23 north, Range 3 west, thence north 28°14′38″ west a distance of 1049.89 feet to a point on the south line of “Parcel A” which is the true point of beginning of this description, thence south 90°00′00″ east a distance of 487.43 feet, thence due north a distance of 331.64 feet, thence north 02°54′08″ west a distance of 650.42 feet to a railroad spike set along the westerly side of the existing access road, thence south 62°36′00″ west a distance of 763.01 feet to an iron pipe monument, thence south 22°05′06″ west a distance of 944.25 feet to an iron pipe monument, thence south 32°31′22″ east a distance of 101.77 feet to a point on an existing fence line, thence north 57°36′52″ east a distance of 202.01 feet along said fence line, thence north 70°24′17″ east along said fence a distance of 57.07 feet, thence north 55°46′08″ east a distance of 361.49 feet to the true point of beginning of this description.

Parcel Four: (APN 87-210-21)

The south half of the southwest quarter of Section 5, Township 23 north, Range 3 west, Mount Diablo Meridian, according to the official plat thereof.

Excepting therefrom a life estate in and to all oil, gas and mineral rights as reserved by Nola Fay Smith in deed recorded December 24, 1971 in Book 581, page 133, official records.

Also excepting therefrom the following described real property consisting of approximately 3.91 acres.

Beginning at the southwest corner of Section 5, Township 23 north, Range 3 west, thence north 41°48′03″ west a distance of 11.54 feet to the southwest corner of the “Fly Pen Parcel” which is the true point of beginning of this description, thence north 00°47′25″ east a distance of 406.28 feet to the northwest corner of the “Fly Pen Parcel”, thence north 87°45′48″ east a distance of 420.05 feet to the northeast corner of the “Fly Pen Parcel”, thence south 00°47′25″ west a distance of 406.28 feet to the southeast corner of the “Fly Pen Parcel”, thence south 00°47′25″ west a distance of 420.05 feet to the true point of beginning of this description.

Also excepting therefrom the following described real property consisting of approximately 17.55 acres:

Beginning at the southwest corner of Section 5, Township 23 north, Range 3 west, thence north 79°55′10″ east a distance of 1892.35 feet to the southwest corner of the “Dam & Spillway Parcel” which is the true point of beginning of this description, thence north 06°44′50″ east a distance of 516.20 feet to a point lying in the lake which is partially encompassed by the “Dam & Spillway Parcel”, thence north 17°00′36″ west a distance of 514.96 feet to the northwest corner of the “Dam & Spillway Parcel” which point lies along the south side of an existing access road and fence, thence north 89°25′25″ east a distance of 851.69 feet more or less to the mid-section line of Section 5, Township 23 north, Range 3 west, which point is also the northeast corner of the “Dam & Spillway Parcel” thence south 00°03′59″ west along the said mid-section line a distance of 1021.68 more or less to the southeast corner of the “Dam & Spillway Parcel”, thence north 89°23′44″ west a distance of 762.87 feet more or less to the true point of beginning of this description.

Parcel Five: (APN 87-220-11)

Lot 7 in block 213 of Maywood Colony No. 24, as the same is shown on the map entitled: “Maywood Colony No. 24 Tehama Co. CAL. T-23 N R 3 W.”, filed in the office of the county recorder of the County of Tehama, State of California April 23, 1900 in book B of maps at page 46.

Excepting therefrom: Beginning at the northeast corner of lot 7 of said block 213 and running thence along the east boundary of said lot 7, south 0°21′ east 641.7 feet to the southeast corner of said lot 7; thence continuing along the southerly prolongation of said east boundary, south 0°21′ east 20.0 feet to a point in the common boundary between Maywood Colony No. 24 and the south half of Section 5, Township 23 north, Range 3 west of the Mount Diablo Meridian; thence running along said common boundary north 89°25′ west 97.3 feet; thence leaving said common boundary north 20.0 feet to a point in the south boundary of said lot 7; thence continuing north 641.7 feet to a point in the common boundary between lots 2 and 7 of said block 213; thence running along last said common boundary south 89°23′ east 93.3 feet to the point of beginning.

Also excepting therefrom all oil, gas, minerals and hydrocarbon substances as excepted in the deed from William E. MacAulay, Et Ux, to A & K Cattle Company, Inc., recorded March 4, 1991 as document No. 2514, official records.

Parcel Six: (APN 87-220-12)

Lot 6 in block 213 of Maywood Colony No. 24, as the same is filed in the office of the county recorder of the County of Tehama, State of California, April 23, 1900 in Book B of maps at page 46.

Excepting therefrom all oil, gas and minerals, as excepted in the deed form Geraldine E. Kretsinger, as executor of the estate of Josiah T. Kretsinger, decease, recorded November 13, 1991, in Book 1347, page 83, officials records.

Parcel Seven: (Portion of APN 87-310-02)

The east half of the northeast quarter and the east half of the west half of the northeast quarter of section 7, Township 23 north, Range 3 west, Mount Diablo Meridian, according to the official plat thereof.

Excepting therefrom all oil, gas, minerals and other hydrocarbon substances, lying in or under said land, as reserved in the deed from Charles Merlin Morgan, also known as Charles M. Morgan and as C.M. Morgan, and Mary Jean Morgan, his wife, recorded October 21, 1976 in Book 698, page 72, official records.

Parcel Eight: (Portion of APN 87-310-02)

The west half of lots 2 and 7 of Elmore Co-operative Colony, also described as the west half of the west half of the northeast quarter of Section 7; and lot 10 of Elmore Co-operative Colony, also described as the northwest quarter of the southeast quarter of Section 7, Township 23 north, Range 3 west, Mount Diablo Meridian, according to the official plat thereof.

Excepting therefrom all oil, gas, minerals and other hydrocarbon substances, lying in or under said land, as reserved in the deed from Charles Merlin Morgan, also known as Charles M. Morgan and as C.M. Morgan, and Mary Jean Morgan, his wife, recorded October 21, 1976 in Book 698, page 72, official records.

Parcel Nine: (APN 87-310-08)

The southeast quarter of the southeast quarter of Section 7, Township 23 north, Range 3 west, Mount Diablo Meridian (also referred to as lot 16 of Elmore Cooperative Colony in Section 7, Township 23 north, Range 3 west).

Parcel Ten: (APN 87-310-06)

North half of the northeast quarter of southeast quarter of Section 7, Township 23 north, Range 3 west, Mount Diablo Meridian, according to the official plat thereof.

Parcel Eleven: (APN 87-310-10)

The north one-half of Section 8 in Township 23 north, Range 3 west, Mount Diablo Meridian, according to the official plat thereof.

Excepting therefrom all oil, gas, minerals and other hydrocarbon substances lying in or under said land, as reserved in deed from Charles Merlin Morgan, et ux, recorded October 21, 1976 in Book 698, page 69, official records.

Parcel Twelve: (APN 87-210-17, 18 & 20)

Beginning at the southwest corner of Section 5, Township 23 north, Range 3 west, thence north 28°14′38″ west a distance of 1049.89 feet to a point on the south line of “Parcel A” which is the true point of beginning of this description, thence south 90°00′00″ east a distance of 487.43 feet, thence due north a distance of 331.64 feet, thence north 02°54′08″ west a distance of 650.42 feet to a railroad spike set along the westerly side of the existing access road, thence south 62°36′00″ west a distance of 763.01 feet to an iron pipe monument, thence south 22°05′06″ west a distance of 944.25 feet to an iron pipe monument, thence south 32°31′22″ east a distance of 101.77 feet to a point on an existing fence line, thence north 57°36′52″ east a distance of 202.01 feet along said fence line, thence 70°24′17″ east along said fence a distance of 57.07 feet, thence north 55°46′08″ east a distance of 361.49 feet to the true point of beginning of this description.

Parcel Thirteen (APN 87-210-22)

Beginning at the southwest corner of Section 5, Township 23 north, Range 3 west, thence north 41°48′03″ west a distance of 11.54 feet to the southwest corner of the “Fly Pen Parcel” which is the true point of beginning of this description, thence north 00°47′25″ east a distance of 406.28 feet to the northwest corner of the “Fly Pen Parcel”, thence north 87°45′48″ east a distance of 420.05 feet to the northeast corner of the “Fly Pen Parcel”, thence south 00°47′25″ west a distance of 406.28 feet to the southeast corner of the “Fly Pen Parcel”, thence south 87°45′48″ west a distance of 420.05 feet to the true point of beginning of this description.

Excepting therefrom a life estate in and to all oil, gas and mineral rights as reserved by Nola Fay Smith in deed recorded December 24, 1971 in Book 581, page 133 official records.

Parcel Fourteen (APN 87-210-23)

Beginning at the southwest corner of Section 5, Township 23 north, Range 3 west, thence north 79°55′10″ east a distance of 1892.35 feet to the southwest corner of the “Dam & Spillway Parcel” which is the true point of beginning of this description, thence north 06°44′50″ east a distance of 516.20 feet to a point lying in the lake which is partially encompassed by the “Dam & Spillway Parcel”, thence north 17°00′36″ west a distance of 514.96 feet to the northwest corner of the “Dam & Spillway Parcel” which point lies along the south side of an existing access road and fence, thence north 89°25′25″ east a distance of 851.69 feet more or less to the mid-section line of Section 5, Township 23 north, Range 3 west, which point is also the northeast corner of the “Dam & Spillway Parcel”, thence south 00°03′59″ west along the said mid-section line a distance of 1021.58 feet more or less to the southeast corner of the “Dam & Spillway Parcel”, thence north 89°23′44″ west a distance of 762.87 feet more or less to the true point of beginning of this description.

Excepting therefrom a life estate in and to all oil, gas and mineral rights as reserved by Nola Fay Smith in deed recorded December 24, 1971 in Book 581, page 133, official records.

Parcel Fifteen: (APN 87-280-15)

The southwest quarter of the northwest quarter of the southeast quarter of Section Four (4), Township Twenty-Three (23) north, Range Three (3) west Mount Diablo Meridian.

Excepting therefrom all oil, gas and minerals as excepted Myrna B. Henze, surviving joint tenant, in deed recorded november 13, 1998 as instrument No. 15549, official records of Tehama County.

Parcel Sixteen: (APN 87-280-08)

The west half of the east half of the northwest quarter of the northwest quarter of southeast quarter of Section 4, Township 23 north, Range 3 west, Mount Diablo Meridian, according to the official plat thereof.

Parcel Seventeen: (APN 87-280-29)

All that portion of the south half of the northeast quarter of the southeast quarter of Section 4, Township 23 North, Range 3 West, Mount Diablo Meridian, according to the official plat thereof, lying west of the lands conveyed to the State of California in deed recorded November 25, 1964 in Book 462, page 96, official records.

Parcel Eighteen: (APN 87-280-20)

The west half of the northwest quarter of the southwest quarter of the southwest quarter of Section 4, Township 23 North, Range 3 West, Mount Diablo Meridian, according to the official plat thereof.

Parcel Nineteen: (APN 87-210-11)

The southeast quarter of Section 5, Township 23 North, Range 3 West, Mount Diablo Meridian, according to the official plat thereof.

Excepting therefrom an undivided ½ interest in and to all oil, gas and mineral rights for a period of 20 years from the recording date of that certain deed from Wayne S. Junkin, a widower, to C. Leroy Myers, a married man, recorded November 15, 1976 in Book 699, page 597, official records.

Parcel Twenty: (APN 87-280-18)

The southeast quarter of the west half of the west half of the south half of the southwest quarter of Section 4, Township 23 North, Range 3 West, Mount Diablo Meridian, according to the official plat thereof.

Parcel Twenty-One: (APN 87-280-06)

The south one-half of the northeast quarter of the southwest quarter of Section 4, Township 23 North, Range 3 West, Mount Diablo Meridian, according to the official plat thereof.

Also excepting therefrom an undivided ½ interest in and to all oil, gas, minerals and other hydrocarbon substances as reserved by Fred L. Dietz, et ux, in deed recorded October 26, 1959 in Book 358, page 597, official records.

Parcel Twenty-Two: (APN 87-280-32 & 33)

The east half of the southwest quarter of the southwest quarter; southeast quarter of the southwest quarter and all that portion of the south half of the southeast quarter lying westerly of that certain parcel of land deeded to the State of California by deed dated May 14, 1964, recorded September 23, 1964 in Book 458, page 750, official records. All of the above described property being in Section 4, Township 23 North, Range 3 West, Mount Diablo Meridian, according to the official plat thereof.

Excepting therefrom one-half of all oil, gas, petroleum and other hydrocarbon substances and minerals, as reserved in deed from Samuel H. Smith, et ux, to Chris Lorenson, dated January 20, 1943, recorded November 20, 1943 in Book 142, page 247, official records.

Also excepting therefrom one-half of all oil, gas, minerals and other hydrocarbon substances, as reserved in the deed from Adolph Feusi, et ux, to Charles W. Reed, et al, dated January 14, 1966, recorded January 19, 1966 in Book 481, page 352, official records.

Parcel Twenty-Three (APN 87-280-31)

The southwest quarter of the west half of the west half of the south half of the southwest quarter of Section 4, Township 23 North, Range 3 West, Mount Diablo Meridian, according to the official plat thereof.

Excepting therefrom the west 130 feet of the south 150 feet.

Parcel Twenty-Four: (APN 87-280-17)

The northeast quarter of the west half of the west half of the south half of the southwest quarter of Section 4, Township 23 North, Range 3 West, Mount Diablo Meridian, according to the official plat thereof.

Parcel Twenty-Five: (APN 87-280-14)

The southeast quarter of the northwest quarter of the southeast quarter of section 4, Township 23 North, Range 3 West, Mount Diablo Meridian, according to the official plat thereof.

Parcel Twenty-Six: (APN 87-280-04)

The north half of the north half of the northeast quarter of the southwest quarter of Section 4, Township 23 North, Range 3 West, Mount Diablo Meridian, according to the official plat thereof.

Parcel Twenty-Seven: (APN 87-280-05)

The south half of the north half of the northeast quarter of the southwest quarter of Section 4, Township 23 North, Range 3 West, Mount Diablo Meridian, according to the official plat thereof.

Parcel Twenty-Eight: (APN 87-280-01)

The north half of the north half of the northwest quarter of the southwest quarter of Section 4, Township 23 North, Range 3 West, Mount Diablo Meridian, according to the official plat thereof.

Excepting therefrom all oil, gas and minerals as reserved by Tunstall P. Baylor and Ollie S. Baylor, husband and wife, in the deed recorded February 17, 1954, in book 259, page 30, Official records of Tehama County.

Parcel Twenty-Nine: (APN 87-280-03)

The south one-half of the northwest quarter of the southwest quarter and the south one-half of the north one-half of the northwest quarter of the southwest quarter of Section 4, Township 23 North, Range 3 West, Mount Diablo Meridian, according to the official plat thereof.

Excepting therefrom all oil, gas and minerals as reserved by Tunstall P. Baylor and Ollie S. Baylor, Husband and wife, in the deed recorded February 17, 1954, in book 259, page 30, Official records of Tehama County.

Parcel Thirty: (APN 87-230-11 & 87-280-07)

The south one-half of lot 5 in block 216 of Maywood Colony No. 24, as the same is shown on the map filed in the office of the county recorder of the County of Tehama, State of California, April 23, 1990, in book B of maps at page 46.

The west one-half of the northwest quarter of the northwest quarter of the southeast quarter of Section 4, Township 23 North, Range 3 West, Mount Diablo Meridian, according to the official plat thereof.

Excepting therefrom the above described property, an undivided one-half interest in and to all oil, gas minerals, and other hydrocarbon substances as reserved in the deed from Fred L. Dietz and Grace E. Dietz, husband and wife, to Jack R. Wood and Ardean M. Wood, husband and wife, as joint tenants, dated October 6, 1959 and recorded October 29, 1959 in book 359, official records at page 93, records of Tehama County.

Parcel Thirty-One (APN 87-310-11)

The South One-Half of Section 8 in Township 23 North, Range 3 west, Mount Diablo Meridian, according to the official plat thereof. (The Southwest Quarter of said Section 8 is also known as lots 69, 70, 71, 72, 73, 74, 75, 76, 85, 86, 87, 88, 89, 90, 91, 92, 101, 102, 103, 104, 105, 106, 107, 108, 117, 118, 119, 120, 121, 122, 123 and 124, as the same are so designated and delineated upon that certain map entitled: “Plat of Elmore Colony, 5 Acre Subdivisions, being Southwest ¼ Section No. 8, in Township No. 23 north, Range No. 3 west, Mount Diablo Meridian, Tehama County, California”, filed in the Tehama County Recorder's Office, May 20, 1889 in Book A of maps at page 9.)

Excepting therefrom all oil, gas and mineral rights, as excepted in the deed from James WM. (Mike) Morgan, Jr., to A & K Cattle Company, a California corporation, Recorded August 25, 1998 in Book 1813, page 92, official records.

Containing 262.46 acres, more or less, located within Tehama County, California. Further described as follows:

Located in the Unincorporated Area

All that portion of the north one-half of Section 9, Township 23 north, Range 3 west, Mount Diablo Meridian, lying west of the west line of that parcel acquired by the State of California by final order of condemnation recorded December 16, 1966 in Book 494, page 281, Official Records of Tehama County.

Excepting Therefrom a 840/1160ths Interest in and to all gas, oil, hydrocarbons, minerals and fissionable materials in and under the above described land, pursuant to that certain agreement by and between James WM. Morgan, Robert Earl Morgan, George Merlin Morgan and Charles Merlyn Morgan, Recorded June 9, 1960, in Book 371, page 443, and that certain agreement by and between James WM. Morgan, Robert Earl Morgan, George Merlin Morgan and Charles Merlyn Morgan, Recorded April 14, 1966, in Book 484, page 624, Official Records of Tehama County.

Dated: November 30, 2000.
Kevin Gover,
Assistant Secretary—Indian Affairs.

[FR Doc. 00-31027 Filed 12-5-00; 8:45 am]

BILLING CODE 4310-02-P